FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 009857-009.

Title: Florida-Caribbean Cruise Association (“FCCA”).

Parties: Carnival Cruise Lines; Celebrity Cruises; Costa Cruise Lines; Cunard Line; Disney Cruise Line; Holland America Line; Norwegian Cruise Line; Princess Cruises; Radisson Seven Seas Cruises; Royal Caribbean International; Topaz International Cruises; Windstar Cruises; and MSC Cruises (USA) Inc.

Filing Party: Matthew Thomas, Esq.; Troutman Sanders LLP; 401 9th Street NW; Suite 1000; Washington, DC 20004-2134.

Synopsis: The subject modification would revise the agreement authority to more clearly describe the FCCA's activities, delete authority for the members to take joint action on rates and charges, update the membership list and contact information, and republish the agreement.

Agreement No.: 011843-001.

Title: LT/ZIM Cross Space Charter and Sailing Agreement.

Parties: Lloyd Triestino di Navigazione S.p.A. and Zim Integrated Shipping Services, Ltd.

Filing Party: Paul M. Keane, Esq.; Cichanowicz, Callan, Keane, Vengrow & Textor, LLP; 61 Broadway; Suite 3000; New York, NY 10006-2802.

Synopsis: The modification updates Zim's corporate name.

Agreement No.: 011922.

Title: TNWA/GA Cooperative Working Agreement.

Parties: APL Co. Pte. Ltd./American President Lines, Ltd.; Hyundai Merchant Marine Co., Ltd.; Mitsui O.S.K. Lines, Ltd.; Hapag-Lloyd Container Linie GmbH; Nippon Yusen Kaisha; and Orient Overseas Container Line Limited/Orient Overseas Container Line Inc./Orient Overseas Container Line (Europe) Limited.

Filing Party: David F. Smith, Esq.; Sher & Blackwell LLP; 1850 M Street NW; Suite 900; Washington, DC 20036.

Synopsis: The proposed agreement would authorize the parties to share vessel space and engage in related rationalization, coordination, and cooperative activities in the trade between ports in North Asia and ports on the U.S. Atlantic Coast via the Panama Canal.

Dated: October 21, 2005.
By order of the Federal Maritime Commission.
Karen V. Gregory,
Assistant Secretary.

[FR Doc. 05-21380 Filed 10-25-05; 8:45 am]

BILLING CODE 6730-01-P